FEDERAL RETIREMENT THRIFT INVESTMENT BOARD

Sunshine Act; Notice of Meeting

Time and Date: 8:30 a.m. (EST), January 22, 2007.

Place: 4th Floor Conference Room, 1250 H Street, NW., Washington, DC.

Status: Closed to the public.

Matters to be Considered: Personnel.

Contact Person for More Information: Thomas J. Trabucco, Director, Office of External Affairs, (202) 942-1640.

Dated: January 16, 2007.
Thomas K. Emswiler,
Secretary to the Board, Federal Retirement Thrift Investment Board.

[FR Doc. 07-220 Filed 1-16-07; 4:42 pm]

BILLING CODE 6760-01-P